DEPARTMENT OF COMMERCE

National Oceanic and Atmospheric Administration

RIN 0648-XC357

Fisheries of the Exclusive Economic Zone Off Alaska; Recordkeeping and Reporting Requirements; Public Workshops

AGENCY: National Marine Fisheries Service (NMFS), National Oceanic and Atmospheric Administration (NOAA), Commerce.

ACTION: Notice of workshop.

SUMMARY: NMFS, Alaska Region, will present a workshop on seaLandings, a consolidated electronic means of reporting landings and production of commercial groundfish to multiple management agencies for Federal and State fisheries off Alaska, and 2013 recordkeeping and reporting requirements for the Alaska groundfish fisheries and Individual Fishing Quota fisheries.

DATES: The workshop will be held on November 29, 2012, from 9:00 a.m. to 1:00 p.m., Pacific Standard Time.

ADDRESSES: The workshop will be held at the Swedish Cultural Center located at 1920 Dexter Ave N., Seattle, WA. Directions to the center can be found on its Web site, http://www.swedishculturalcenter.org/contacts.htm.

FOR FURTHER INFORMATION CONTACT: Susan Hall, 907-586-7462.

SUPPLEMENTARY INFORMATION: The workshop will include a discussion of 2013 recordkeeping and reporting requirements for Alaska groundfish fisheries and Individual Fishing Quota fisheries and instructions for completing and submitting required reports and logbooks using seaLandings.

The final rule for monitoring and enforcement requirements in the Bering Sea and Aleutian Islands freezer longline fleet (77 FR 59053) mandates that vessel operators who opt into the program will be required to use an electronic logbook beginning in 2013.

NMFS will provide a demonstration of the latest version of seaLandings for at-sea catcher/processors and motherships, and training on how to submit daily production reports and landing reports with and without Individual Fishing Quota. NMFS will also provide a demonstration of the freezer longline catcher/processor electronic logbook in seaLandings.

Special Accommodations

This workshop will be physically accessible to people with disabilities. Requests for sign language interpretation or other auxiliary aids should be directed to Susan Hall, 907-586-7462, at least 5 working days prior to the meeting date.

Dated: November 19, 2012.
Lindsay Fullenkamp,
Acting Deputy Director, Office of Sustainable Fisheries, National Marine Fisheries Service.

[FR Doc. 2012-28490 Filed 11-21-12; 8:45 am]

BILLING CODE 3510-22-P